AGENCY FOR INTERNATIONAL DEVELOPMENT

Notice of Public Information Collection Requirements Submitted to OMB for Review

SUMMARY: U.S. Agency for International Development (USAID) has submitted the following information collection to OMB for review and clearance under the Paperwork Reduction Act of 1995. Public Law 104-13. Comments regarding this information collection are best assured of having their full effect if received within 30 days of this notification. Comments should be sent via e-mail to David_Rostker@omb.eop.gov or fax to 202-395-7285. Copies of submission may be obtained by calling (202) 712-1365.

SUPPLEMENTARY INFORMATION:

OMB Number: OMB 0412-0035.

Form Number: AID 1550-2.

Title: Private and Voluntary Organization Annual Return.

Type of Submission: Renewal of Information Collection.

Purpose: USAID is required to collect information regarding the financial support of private and voluntary organizations registered with the Agency. The information is used to determine the eligibility of PVOs to receive USAID funding.

Annual Reporting Burden

Respondents: 459.

Total annual responses: 442.

Total annual hours requested: 1,320 hours.

Dated: September 9, 2004.
Joanne Paskar,
Chief Information and Records Division, Office of Administrative Services, Bureau for Management.

[FR Doc. 04-20732 Filed 9-14-04; 8:45 am]

BILLING CODE 6116-01-M